DEPARTMENT OF COMMERCE

Foreign-Trade Zones Board

[Docket 3-2002]

Foreign-Trade Zone 124—LaPlace, Louisiana, Application for Expansion—Subzone 124H; Bollinger Shipyards Lockport, LLC; (Shipbuilding), LaFourche, Louisiana

An application has been submitted to the Foreign-Trade Zones Board (the Board) by the South Louisiana Port Commission, grantee of FTZ 124, requesting authority to expand Subzone 124H, at the Bollinger Shipyards Lockport, LLC (Bollinger) shipbuilding facility located in Lockport, Louisiana, to include six new sites in Lafourche, Jefferson and Orleans Parishes. The application was submitted pursuant to the provisions of the Foreign-Trade Zones Act, as amended (19 U.S.C. 81a-81u), and the regulations of the Board (15 CFR part 400). It was formally filed on January 8, 2002.

Subzone 124H was approved on July 10, 1998 (Board Order 993, 63 FR 39069, 7-21-98). The subzone currently consists of five sites: Site 1 (250 acres)—Bollinger Lockport, 8365 LA Hwy. 308, Lockport; Site 2 (168 acres)—Bollinger Larose, LLC, 1515 Highway 24, Larose; Site 3 (67 acres)—Bollinger Marine Fabricators, LLC, 816 Bollinger Lane, Amelia; Site 4 (101 acres)—Bollinger Morgan City, LLC, 806 Bollinger Lane, Amelia; and, Site 5 (50 acres)—Bollinger Amelia Repair, LLC, 606 Ford Industrial Road, Amelia. The applicant is now requesting authority to expand the subzone to include six additional sites: proposed Site 6 (3 acres)—Bollinger Algiers, LLC, 434 Powder St., New Orleans; proposed Site 7 (40 acres)—Bollinger Gretna, 4640 Peters Rd., Harvey; proposed Site 8 (58 acres)—Bollinger Gulf Repair, 3900 Jourdan Road W, New Orleans; proposed Site 9 (30 acres) Bollinger Quick Repair, 615 Destrehan Ave., Harvey; proposed Site 10 (4 acres) Bollinger Fourchon, LLC, 106 Norman Doucet Dr., Golden Meadow; and, proposed Site 11 (21 acres)—Chand, LLC, 157 Highway 654, Matthews. The Bollinger facilities are used for the construction and repair of commercial and government vessels for domestic and international customers.

This proposal does not request any new authority under FTZ procedures in terms of products or components, but it does involve a potential increase in the facility's level of production under FTZ procedures. Bollinger will operate the proposed sites as an integral part of Subzone 124H.

The proposed expanded manufacturing activity conducted under FTZ procedures would be subject to the “standard shipyard restriction” applicable to foreign-origin steel mill products (e.g., angles, pipe, plate), which requires that Customs duties be paid on such items.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230. The closing period for their receipt is March 18, 2002. Rebuttal comments in response to material submitted during the foregoing period may be submitted during the subsequent 15-day period (to April 1, 2002).

A copy of the application and accompanying exhibits will be available for public inspection at the Office of the Foreign-Trade Zones Board's Executive Secretary at the first address listed above, and at the U.S. Department of Commerce Export Assistance Center, One Canal Place, 365 Canal Street, Suite 1170, New Orleans, LA 70130.

Dated: January 8, 2002.
Dennis Puccinelli,
Executive Secretary.

[FR Doc. 02-975 Filed 1-14-02; 8:45 am]

BILLING CODE 3510-DS-P